DEPARTMENT OF COMMERCE

International Trade Administration

[C-351-863, C-122-872, C-201-864, C-552-844]

Certain Corrosion-Resistant Steel Products From Brazil, Canada, Mexico, and the Socialist Republic of Vietnam: Countervailing Duty Orders

AGENCY: Enforcement and Compliance, International Trade Administration, Department of Commerce.

SUMMARY: Based on affirmative final determinations by the U.S. Department of Commerce (Commerce) and U.S. International Trade Commission (ITC), Commerce is issuing countervailing duty (CVD) orders on certain corrosion-resistant steel products (CORE) from Brazil, Canada, Mexico, and the Socialist Republic of Vietnam (Vietnam).

DATES: Applicable December 19, 2025.

FOR FURTHER INFORMATION CONTACT: Paul Senoyuit (Brazil), Office II, telephone: (202) 482-6106; Colin Thrasher (Canada), Office V, telephone: (202) 482-3004; Maria Aymerich (Mexico), Office IV, telephone: (202) 482-0499; and Ted Pearson (Vietnam), Office I, telephone: (202) 482-2631; AD/CVD Operations, Enforcement and Compliance, International Trade Administration, U.S. Department of Commerce, 1401 Constitution Avenue NW, Washington, DC 20230.

SUPPLEMENTARY INFORMATION:

Background

On August 29, 2025, Commerce published in the Federal Register its affirmative final determinations in the CVD investigations of CORE from Brazil, Canada, Mexico, and Vietnam.¹ On November 28, 2025, the ITC notified Commerce of its final determinations, pursuant to sections 705(d) of the Tariff Act of 1930, as amended (the Act), that an industry in the United States is materially injured within the meaning of section 705(b)(1)(A)(i) of the Act by reason of imports of CORE from Brazil, Canada, Mexico, and Vietnam.²

¹ See Certain Corrosion-Resistant Steel Products from Brazil: Final Affirmative Countervailing Duty Determination, 90 FR 42204 (August 29, 2025); see also Certain Corrosion-Resistant Steel Products from Canada: Final Affirmative Countervailing Duty Determination, 90 FR 42200 (August 29, 2025) (Canada Final Determination); Certain Corrosion-Resistant Steel Products from Mexico: Final Affirmative Countervailing Duty Determination, 90 FR 42229 (August 29, 2025) (Mexico Final Determination); and Certain Corrosion-Resistant Steel Products from the Socialist Republic of Vietnam: Final Affirmative Countervailing Duty Determination, 90 FR 42207 (August 29, 2025) (Vietnam Final Determination) (collectively, Final Determinations).

² See ITC's Letter, “Notification of ITC Final Determinations,” dated November 28, 2025.

Scope of the Orders

The products covered by these orders are CORE from Brazil, Canada, Mexico, and Vietnam. For a full description of the scope of these orders, see the appendix to this notice.

Countervailing Duty Orders

Based on the affirmative final determinations by the ITC that an industry in the United States is materially injured by reason of subsidized imports of CORE from Brazil, Canada, Mexico, and Vietnam,³ in accordance with sections 705(c)(2) and 706(a) of the Act, Commerce is issuing these CVD orders. Because the ITC determined that imports of CORE from Brazil, Canada, Mexico, and Vietnam are materially injuring a U.S. industry, unliquidated entries of such merchandise entered, or withdrawn from warehouse, for consumption, are subject to the assessment of countervailing duties.

³ Id.

Therefore, in accordance with section 706(a) of the Act, Commerce will direct U.S. Customs and Border Protection (CBP) to assess, upon further instructions by Commerce, countervailing duties on certain unliquidated entries of CORE from Brazil, Canada, Mexico, and Vietnam, that were entered, or withdrawn from warehouse, for consumption on or after February 10, 2025, the date of publication of the Preliminary Determinations,⁴ but will not include entries occurring after the expiration of the provisional measures period and before the publication of the ITC's final injury determination under section 705(b) of the Act, as further described below.

⁴ See Certain Corrosion-Resistant Steel Products from Brazil: Preliminary Affirmative Countervailing Duty Determination, and Alignment of Final Determination with Final Antidumping Duty Determination, 90 FR 9228 (February 10, 2025); see also Certain Corrosion-Resistant Steel Products from Canada: Preliminary Affirmative Countervailing Duty Determination and Alignment of Final Determination with Final Antidumping Duty Determination, 90 FR 9231 (February 10, 2025); Certain Corrosion-Resistant Steel Products from Mexico: Preliminary Affirmative Countervailing Duty Determination, and Alignment of Final Determination with Final Antidumping Duty Determination, 90 FR 9226 (February 10, 2025) (Mexico Preliminary Determination), and accompanying Preliminary Decision Memorandum (PDM); and Certain Corrosion-Resistant Steel Products from the Socialist Republic of Vietnam: Preliminary Affirmative Countervailing Duty Determination, and Alignment of Final Determination with Antidumping Duty Determination, 90 FR 9235 (February 10, 2025) (Vietnam Preliminary Determination) (collectively, Preliminary Determinations).

Suspension of Liquidation and Cash Deposits

In accordance with section 706 of the Act, Commerce intends to instruct CBP to reinstitute the suspension of liquidation and continue the suspension of liquidation, as applicable, of CORE from Brazil, Canada, Mexico, and Vietnam, effective on the date of publication of the ITC's final affirmative injury determination in the Federal Register, and to assess, upon further instruction by Commerce, pursuant to section 706(a)(1) of the Act, countervailing duties on each entry of subject merchandise in an amount based on the net countervailable subsidy rates below.⁵ These instructions suspending liquidation will remain in effect until further notice.

⁵ For the Mexico Preliminary Determination, Commerce did not instruct CBP to suspend liquidation of entries of subject merchandise for Galvasid S.A. de C.V (Galvasid), and for the Vietnam Preliminary Determination, Commerce did not instruct CBP to suspend liquidation for Hoa Sen Group (HSG) or Ton Dong A Corporation (TDA) because Galvasid, HSG, and TDA's preliminary net countervailable subsidy rates were zero or de minimis. See Mexico Preliminary Determination, 90 FR at 9227; see also Vietnam Preliminary Determination, 90 FR at 9236. However, Commerce instructed CBP to suspend liquidation of entries of subject merchandise for TDA as a result of the Vietnam Final Determination because TDA's final net countervailable subsidy rate was above de minimis. See Vietnam Final Determination, 90 FR at 42208. Galvasid and HSG's final net countervailable subsidy rates were zero and de minimis, respectively, and, consequently, Commerce did not instruct CBP to suspend liquidation of entries of subject merchandise for these companies. See Mexico Final Determination, 90 FR at 42230; see also Vietnam Final Determination, 90 FR at 42208.

Commerce also intends, pursuant to section 706(a)(1) of the Act, to instruct CBP to require cash deposits equal to the amounts as indicated below. Accordingly, effective on the date of publication of the ITC's final affirmative injury determination in the Federal Register, CBP will require, at the same time as importers would normally deposit estimated customs duties on the subject merchandise, a cash deposit for each entry of subject merchandise equal to the subsidy rates listed below.⁶ The all-others rates apply to all producers or exporters not specifically listed below, as appropriate.

⁶ See section 706(a)(3) of the Act.

Because the countervailable subsidy rates are zero and de minimis for subject merchandise produced and exported by Galvasid and HSG, respectively, entries of shipments of subject merchandise from these producers/exporters are excluded from the countervailing duty orders on subject merchandise from Mexico and Vietnam.

Estimated Countervailable Subsidy Rates

The estimated countervailable subsidy rates are as follows:

⁷ Commerce found the following companies to be cross owned: CSN Mineração S.A.; Companhia Energetica Chapeco; and Companhia Estadual de Geração de Energia Elétrica. See Mexico Preliminary Determination PDM at 6.

⁸ Commerce found the following companies to be crossed owned: Usiminas: Mineração Usiminas S.A.; Usiminas Mecânica S.A; Unigal Ltda.; Ternium Brasil Ltda. See Mexico Preliminary Determination PDM at 6-7.

⁹ Commerce found the following companies to be cross-owned with ArcelorMittal Dofasco G.P.: ArcelorMittal Canada Holdings Inc., ArcelorMittal Canada Inc., ArcelorMittal Canada MP Inc., ArcelorMittal Long Products Canada G.P., ArcelorMittal Mining Canada GP, and ArcelorMittal Coteau-du-Lac Limited Partnership. Commerce notes that the Canada Final Determination listed both “ArcelorMittal Mining Canada GP” and “ArcelorMittal Exploitation Miniere Canada s.e.n.c.” as cross-owned entities of ArcelorMittal Dofasco G.P.; these two names refer to the same entity. As such, we have removed ArcelorMittal Exploitation Miniere Canada s.e.n.c. (i.e., the French spelling of the name) from the list of cross-owned entities above.

¹⁰ Commerce found the following companies to be cross-owned: Hoa Sen Nghe An One Member Limited Liabilities Company; Hoa Sen Nhon Hoi—Binh Dinh One Member Limited Liability Company; Hoa Sen Phu My One Member Limited Liabilities; and Hoa Sen Steel One Member Company Limited.

Company | Subsidy rate (percent ad valorem)
Brazil
Companhia Siderúrgica Nacional; CSN Mineração S.A.; Companhia Energetica Chapeco; Companhia Estadual de Geração de Energia Elétrica.⁷ | 16.84
Usinas Siderúrgicas de Minas Gerais S.A.; ⁸ Mineração Usiminas S.A.; Usiminas Mecânica S.A; Unigal Ltda.; Ternium Brasil Ltda | 4.39
All Others | 15.99
Canada
ArcelorMittal Dofasco G.P.⁹ | 1.14
Stelco, Inc | 1.50
Nova Steel Inc | * 34.55
All Others | 1.16
Mexico
Ternium Mexico, S.A. de C.V | 13.26
Galvasid S.A. de C.V | 0.00
All Others | 13.26
Vietnam
Hoa Sen Group ¹⁰ | 0.30
Ton Dong A Corporation | 1.29
190 Steel Pipe Co Ltd | * 257.83
Vietnam Steel Pipe Co., Ltd | * 257.83
Vina One Steel Manufacturing Corporation | * 257.83
VNSTEEL—Thang Long Coated Sheets Joint Stock Company | * 257.83
VNSTEEL—Vietnam Steel Corp | * 257.83
All Others | 1.29
* Rate based on facts available with adverse inferences.
** De minimis.

Provisional Measures

Section 703(d) of the Act states that the suspension of liquidation pursuant to an affirmative preliminary determination may not remain in effect for more than four months. In the underlying investigations, Commerce published the Preliminary Determinations on February 10, 2025.¹¹ As such, the four-month period beginning on the date of the publication of the Preliminary Determinations ended on June 9, 2025. Therefore, entries of CORE from Brazil, Canada, Mexico, and Vietnam made on or after June 10, 2025, and prior to the date of publication of the ITC's final determinations in the Federal Register, are not subject to the assessment of countervailing duties due to Commerce's discontinuation of the suspension of liquidation.¹²

¹¹ See Preliminary Determinations.

¹² As discussed above, Commerce did not instruct CBP to suspend liquidation of entries of subject merchandise for Galvasid (Mexico), HSG (Vietnam), or TDA (Vietnam) because the net countervailable subsidy rates for these companies were zero or de minimis. See Mexico Preliminary Determination, 90 FR at 9227; see also Vietnam Preliminary Determination, 90 FR at 9236. However, Commerce instructed CBP to suspend liquidation of entries of subject merchandise for TDA as a result of the Vietnam Final Determination because TDA's final net countervailable subsidy rate was above de minimis. See Vietnam Final Determination, 90 FR at 42208. Therefore, the discontinuation of suspension of liquidation as a result of the expiration of provisional measures, as described in this section, does not apply to TDA for which provisional measures remain in effect.

In accordance with section 703(d) of the Act, Commerce instructed CBP to terminate the suspension of liquidation and to liquidate, without regard to countervailing duties, certain unliquidated entries of CORE from Brazil, Canada, Mexico, and Vietnam entered, or withdrawn from warehouse, for consumption on or after June 10, 2025, the date on which the provisional CVD measures expired, until and through the day preceding the date of publication of the ITC's final injury determinations in the Federal Register. Suspension of liquidation and the collection of cash deposits will resume on the date of publication of the ITC final injury determinations in the Federal Register.

Establishment of the Annual Inquiry Service List

On September 20, 2021, Commerce published the Final Rule in the Federal Register.¹³ On September 27, 2021, Commerce also published the Procedural Guidance in the Federal Register.¹⁴ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹⁵

¹³ See Regulations to Improve Administration and Enforcement of Antidumping and Countervailing Duty Laws, 86 FR 52300 (September 20, 2021) (Final Rule).

¹⁴ See Scope Ruling Application; Annual Inquiry Service List; and Informational Sessions, 86 FR 53205 (September 27, 2021) (Procedural Guidance).

¹⁵ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the order. Each annual inquiry service list will be saved in ACCESS, under each case number, and under a specific segment type called “AISL-Annual Inquiry Service List.” ¹⁶

¹⁶ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL—January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published.

Commerce may update an annual inquiry service list at any time as needed based on interested parties' amendments to their entries of appearance to remove or otherwise modify their list of members and representatives, or to update contact information. Any changes or announcements pertaining to these procedures will be posted to the ACCESS website.

Special Instructions for Petitioners and Foreign Governments

In the Final Rule, Commerce stated that, “after an initial request and placement on the annual inquiry service list, both petitioners and foreign governments will automatically be placed on the annual inquiry service list in the years that follow.” ¹⁷ Accordingly, as stated above, the petitioners and foreign governments should submit their initial entry of appearance after publication of this notice in order to appear in the first annual inquiry service list. Pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

¹⁷ See Final Rule, 86 FR at 52335.

Notification to Interested Parties

This notice constitutes the CVD orders with respect to CORE from Brazil, Canada, Mexico, and Vietnam, pursuant to section 706(a) of the Act. Interested parties can find a list of CVD orders currently in effect at https://www.trade.gov/data-visualization/adcvd-proceedings.

These CVD orders are published in accordance with section 706(a) of the Act and 19 CFR 351.211(b).

Dated: December 15, 2025.
Christopher Abbott,
Deputy Assistant Secretary for Policy and Negotiations, performing the non-exclusive functions and duties of the Assistant Secretary for Enforcement and Compliance.

Appendix

Scope of the Orders

The products covered by these orders are certain flat-rolled steel products, either clad, plated, or coated with corrosion-resistant metals such as zinc, aluminum, or zinc-, aluminum-, nickel- or iron-based alloys, whether or not corrugated or painted, varnished, laminated, or coated with plastics or other non-metallic substances in addition to the metallic coating. The products covered include coils that have a width of 12.7 mm or greater, regardless of form of coil (e.g., in successively superimposed layers, spirally oscillating, etc.). The products covered also include products not in coils (e.g., in straight lengths) of a thickness less than 4.75 mm and a width that is 12.7 mm or greater and that measures at least 10 times the thickness. The products covered also include products not in coils (e.g., in straight lengths) of a thickness of 4.75 mm or more and a width exceeding 150 mm and measuring at least twice the thickness. The products described above may be rectangular, square, circular, or other shape and include products of either rectangular or non-rectangular cross-section where such cross-section is achieved subsequent to the rolling process, i.e., products which have been “worked after rolling” (e.g., products which have been beveled or rounded at the edges).

For purposes of the width and thickness requirements referenced above:

(1) Where the nominal and actual measurements vary, a product is within the scope if application of either the nominal or actual measurement would place it within the scope based on the definitions set forth above, and

(2) where the width and thickness vary for a specific product (e.g., the thickness of certain products with non-rectangular cross-section, the width of certain products with non-rectangular shape, etc.), the measurement at its greatest width or thickness applies.

Steel products included in the scope of these orders are products in which: (1) iron predominates, by weight, over each of the other contained elements; and (2) the carbon content is 2 percent or less, by weight.

Subject merchandise also includes corrosion-resistant steel that has been further processed in a third country, including but not limited to annealing, tempering, painting, varnishing, trimming, cutting, punching and/or slitting or any other processing that would not otherwise remove the merchandise from the scope of the orders if performed in the country of manufacture of the in-scope corrosion resistant steel.

All products that meet the written physical description are within the scope of these orders unless specifically excluded. The following products are outside of and/or specifically excluded from the scope of these orders:

• Flat-rolled steel products either plated or coated with tin, lead, chromium, chromium oxides, both tin and lead (“terne plate”) or both chromium and chromium oxides (“tin free steel”), whether or not painted, varnished or coated with plastics or other non-metallic substances in addition to the metallic coating;

• Clad products in straight lengths of 4.7625 mm or more in composite thickness and of a width which exceeds 150 mm and measures at least twice the thickness;

• Certain clad stainless flat-rolled products, which are three-layered corrosion-resistant carbon steel flat-rolled products less than 4.75 mm in composite thickness that consist of a carbon steel flat-rolled product clad on both sides with stainless steel in a 20%-60%-20% ratio; and

Also excluded from the scope of the antidumping duty investigation on corrosion resistant steel from Taiwan are any products covered by the existing antidumping duty order on corrosion-resistant steel from Taiwan. See Certain Corrosion-Resistant Steel Products from India, Italy, the People's Republic of China, the Republic of Korea and Taiwan: Amended Final Affirmative Antidumping Determination for India and Taiwan, and Antidumping Duty Orders, 81 FR 48390 (July 25, 2016); Corrosion-Resistant Steel Products from Taiwan: Notice of Third Amended Final Determination of Sales at Less Than Fair Value Pursuant to Court Decision and Partial Exclusion from Antidumping Duty Order, 88 FR 58245 (August 25, 2023).

Also excluded from the scope of the antidumping duty investigation on corrosion-resistant steel from the United Arab Emirates and the antidumping duty and countervailing duty investigations on corrosion-resistant steel from the Socialist Republic of Vietnam are any products covered by the existing antidumping and countervailing duty orders on corrosion-resistant steel from the People's Republic of China and the Republic of Korea and the antidumping duty order on corrosion-resistant steel from Taiwan. See Certain Corrosion-Resistant Steel Products from India, Italy, the People's Republic of China, the Republic of Korea and Taiwan: Amended Final Affirmative Antidumping Determination for India and Taiwan, and Antidumping Duty Orders, 81 FR 48390 (July 25, 2016); see also Certain Corrosion-Resistant Steel Products from India, Italy, Republic of Korea and the People's Republic of China: Countervailing Duty Order, 81 FR 48387 (July 25, 2016). This exclusion does not apply to imports of corrosion-resistant steel that are entered, or withdrawn from warehouse, for consumption in the United States for which the relevant importer and exporter certifications have been completed and maintained and all other applicable certification requirements have been met such that the entry is entered into the United States as not subject to the antidumping and countervailing duty orders on corrosion-resistant steel from the People's Republic of China, the antidumping and countervailing duty orders on corrosion-resistant steel from the Republic of Korea, or the antidumping duty order on corrosion-resistant steel from Taiwan.

The products subject to these orders are currently classified in the Harmonized Tariff Schedule of the United States (HTSUS) under item numbers: 7210.30.0030, 7210.30.0060, 7210.41.0000, 7210.49.0030, 7210.49.0040, 7210.49.0045, 7210.49.0091, 7210.49.0095, 7210.61.0000, 7210.69.0000, 7210.70.6030, 7210.70.6060, 7210.70.6090, 7210.90.6000, 7210.90.9000, 7212.20.0000, 7212.30.1030, 7212.30.1090, 7212.30.3000, 7212.30.5000, 7212.40.1000, 7212.40.5000, 7212.50.0000, 7212.60.0000, 7225.91.0000, 7225.92.0000, 7226.99.0110, and 7226.99.0130.

The products subject to these orders may also enter under the following HTSUS item numbers: 7210.90.1000, 7215.90.1000, 7215.90.3000, 7215.90.5000, 7217.20.1500, 7217.30.1530, 7217.30.1560, 7217.90.1000, 7217.90.5030, 7217.90.5060, 7217.90.5090, 7225.99.0090, 7226.99.0180, 7228.60.6000, 7228.60.8000, and 7229.90.1000.

The HTSUS subheadings above are provided for convenience and customs purposes only. The written description of the scope of the orders is dispositive.

[FR Doc. 2025-23430 Filed 12-18-25; 8:45 am]

BILLING CODE 3510-DS-P